DEPARTMENT OF TRANSPORTATION

Federal Highway Administration

Environmental Impact Statement: Cameron & Willacy Counties, TX

AGENCY: Federal Highway Administration (FHWA), DOT.

ACTION: Notice of intent.

SUMMARY: The FHWA is issuing this notice to advise the public that an environmental impact statement will be prepared for a proposed 2nd Causeway to South Padre Island, Cameron & Willacy Counties, Texas.

FOR FURTHER INFORMATION CONTACT: John Mack, District Engineer, Federal Highway Administration, 300 East 8th Street, Austin, Texas, Telephone: (512) 536-5960.

SUPPLEMENTARY INFORMATION: The FHWA, in cooperation with the Texas Department of Transportation will prepare an environmental impact statement (EIS) on a proposal to provide a 2nd Causeway to South Padre Island.

The purpose of the study is to address the transportation, environmental and safety issues of a 2nd access to South Padre Island. A 2nd causeway will enhance the health, safety, security, and the well being of island residents and visitors. The need is heightened in the event of hurricane evacuations, incidents involving the bridge, and during high peak travel periods such as Spring Break and the summer vacation season. The need will be further compounded by the need for future repairs to the existing causeway. The EIS will include construction as well as non-construction alternatives for providing access from the mainland to the island.

Letters describing the proposed action and soliciting comments will be sent to appropriate Federal, State, and local agencies, and to private organizations and citizens who have previously expressed or are known to have interest in this proposal. A series of public meetings will be held in the area throughout the development of the EIS. In addition, a public hearing will be held. Public notice will be given with the time and place of the meetings and hearing. The draft EIS will be available for public and agency review and comment prior to the public hearing. The preliminary interagency coordination meeting was held February 26, 2003.

To ensure that the full range of issues related to this proposed action are addressed and all significant issues identified, comments, and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Issued on: April 2, 2003.
John R. Mack,
District Engineer, Austin, Texas.

[FR Doc. 03-9466 Filed 4-16-03; 8:45 am]

BILLING CODE 4910-22-M